COMMITTEE FOR PURCHASE FROM PEOPLE WHO ARE BLIND OR SEVERELY DISABLED

Procurement List; Additions and Deletions

AGENCY: Committee for Purchase From People Who Are Blind or Severely Disabled.

ACTION: Additions to and deletions from the procurement list.

SUMMARY: This action adds products to the Procurement List that will be furnished by nonprofit agencies employing persons who are blind or have other severe disabilities, and deletes products and services from the Procurement List previously furnished by such agencies.

DATES: Date added to and deleted from the Procurement List: December 13, 2020.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 4/17/2020, the Committee for Purchase From People Who Are Blind or Severely Disabled published a notice of proposed addition to the Procurement List. This notice is published pursuant to 41 U.S.C. 8503 (a)(2) and 41 CFR 51-2.3.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following products are added to the Procurement List:

Product(s)

NSN(s)—Product Name(s):

8920-01-E62-6404—Rice, Long Grain, Parboiled, White, 4/10 lb. Bags

8920-01-E62-6405—Rice, Long Grain, Parboiled, Brown, 4/10 lb. Bags

Designated Source of Supply: VisionCorps, Lancaster, PA

Mandatory For: Department of Defense

Contracting Activity: Defense Logistics Agency, DLA Troop Support

Distribution: C-List

Deletions

On 10/9/2020, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following products and services are deleted from the Procurement List:

Product(s)

NSN(s)—Product Name(s):

8415-01-494-4607—Cover, Parachutists' and Ground Troops' Helmet, All Services, Snow Camouflage, XL

Designated Source of Supply: Mount Rogers Community Services Board, Wytheville, VA

Contracting Activity: DLA Troop Support, Philadelphia, PA

Service(s)

Service Type: Janitorial/Minor Maintenance

Mandatory for: U.S. Post Office, Courthouse and Customs House, 301 Simonton Street, Key West, FL

Designated Source of Supply: Brevard Achievement Center, Inc., Rockledge, FL

Contracting Activity: Public Buildings Service, Acquisition Division/Services Branch

Service Type: Janitorial/Custodial

Mandatory for: U.S. Courthouse and Customhouse, 1114 Market Street, St. Louis, MO

Designated Source of Supply: MGI Services Corporation, St. Louis, MO

Contracting Activity: General Services Administration, FPDS Agency Coordinator

Service Type: Janitorial/Custodial

Mandatory for: Social Security Administration Building: 1530 4th Street, Peru, IL

Contracting Activity: General Services Administration, FPDS Agency Coordinator

Service Type: Grounds Maintenance

Mandatory for: Rockville Post Office, 2 West Montgomery Avenue, Rockville, MD

Mandatory for: Consumer Product Safety Commission, 10901 Darnstown Road, Gaithersburg, MD

Mandatory for: Bureau of Alcohol, Tobacco and Firearms, 1401 Research Boulevard, Rockville, MD

Designated Source of Supply: Melwood Horticultural Training Center, Inc., Upper Marlboro, MD

Contracting Activity: Public Buildings Service, WPHBB—Aggregated Repair & Alterations Contracts Branch

Service Type: Grounds Maintenance

Mandatory for: U.S. Army Reserve Center: 70 Rochester Hill Road, Rochester, NH

Designated Source of Supply: Northern New England Employment Services, Portland, ME

Contracting Activity: Dept of the Army, W6QK ACC-PICA

Service Type: Janitorial/Custodial

Mandatory for: U.S. Coast Guard: CGC Eagle (WIX-327), 15 Mohegan Avenue, New London, CT

Designated Source of Supply: CW Resources, Inc., New Britain, CT

Contracting Activity: U.S. Coast Guard, U.S. Coast Guard

Service Type: Janitorial/Custodial

Mandatory for: U.S. Federal Building: 125 South Main Street, Muskogee, OK

Designated Source of Supply: Golden Rule Industries of Muskogee, Inc., Muskogee, OK

Contracting Activity: General Services Administration, FPDS Agency Coordinator

Service Type: Janitorial/Custodial

Mandatory for: Navy Exchange: Fort Adams, Building 402, Newport, RI

Designated Source of Supply: AccessPoint RI, Cranston, RI

Contracting Activity: NEXCOM-Navy Exchange Service Command

Service Type: Custodial Services

Mandatory for: Department of Homeland Security: CBP—Pier One Ala Moana Blvd., Honolulu, HI

Designated Source of Supply: Lanakila Pacific, Honolulu, HI

Contracting Activity: Office of Procurement Operations, Office of Procurement Operations

Service Type: Janitorial/Custodial

Mandatory for: U.S. Federal Building, 224 S. Boulder, Tulsa, OK

Mandatory for: Durward G. Hall Federal Building and Courthouse: 302 Joplin Street, Joplin, MO

Mandatory for: U.S. Federal Building: 123 Fourth Street, SW, Albuquerque, NM

Contracting Activity: General Services Administration, FPDS Agency Coordinator

Service Type: Custodial Services

Mandatory for: Customs and Border Protection, Checkpoint 808, I-8 Westbound 70.2 Mile Marker, Winterhaven, CA, I-8 Westbound 70.2 Mile Marker, Winterhaven, CA

Designated Source of Supply: ARC-Imperial Valley, El Centro, CA

Contracting Activity: U.S. Customs and Border Protection, Border Enforcement Contracting Division

Service Type: Document Destruction

Mandatory for: Department of Veterans Affairs, Veterans Integrated Service Network (VISN) 10, Kettering, OH, 3140 Governor's Place Blvd., Kettering, OH

Designated Source of Supply: Greene, Inc., Xenia, OH

Contracting Activity: Veterans Affairs, Department of, 552-Dayton

Service Type: Administrative Services

Mandatory for: Fort McPherson, GA, HQ USA Forscom Deslog CD, Fort McPherson, GA

Designated Source of Supply: Bobby Dodd Institute, Inc., Atlanta, GA

Contracting Activity: Dept of the Army, W6QM MICC-Ft Gordon

Service Type: Janitorial/Custodial

Mandatory for: U.S. Federal Building: Building #4, 4401 Suitland Road, Suitland, MD

Designated Source of Supply: Davis Memorial Goodwill Industries, Washington, DC

Contracting Activity: General Services Administration, FPDS Agency Coordinator

Service Type: Janitorial/Custodial

Mandatory for: U.S. Army Reserve, Fort Drum Units Home Station and Units Home Vehicle Storage (Motor Pool), Fort Drum, NY, 2490 Coyler Avenue, Fort Drum, NY

Designated Source of Supply: Jefferson County Chapter, NYSARC, Watertown, NY

Contracting Activity: Dept of the Army, W6QK ACC-PICA

Service Type: Janitorial/Custodial

Mandatory for: U.S. Federal Building and Courthouse: 101 First Street SE, Cedar Rapids, IA

Contracting Activity: General Services Administration, FPDS Agency Coordinator

Service Type: Janitorial/Custodial

Mandatory for: U.S. Customs Service, 7 S Nevada Street, Seattle, WA

Designated Source of Supply: Northwest Center, Seattle, WA

Contracting Activity: Treasury, Department of the, Dept of Treas/

Service Type: Facility Support Services

Mandatory for: U.S. Federal Building, Courthouse and Post Office: 330 Shawnee Street, Leavenworth, KS

Contracting Activity: General Services Administration, FPDS Agency Coordinator

Service Type: Janitorial/Custodial

Mandatory for: Naval Sea Systems Command (NAVSEA) Buildings 22,: 28, 104, 176, 197, 201, 213 and 214, Washington Navy Yd, DC

Designated Source of Supply: Melwood Horticultural Training Center, Inc., Upper Marlboro, MD

Contracting Activity: Dept of the Navy, U.S. Fleet Forces Command

Service Type: Laundry Service

Mandatory for: Department of Veterans Affairs, Wilmington VA Medical Center, Wilmington, DE, 1601 Kirkwood Highway, Wilmington, DE

Designated Source of Supply: Elwyn, Aston, PA

Contracting Activity: Veterans Affairs, Department of, 244-Network Contract OFC 4 (00244)

Service Type: Grounds Maintenance

Mandatory for: Federal Center: 620 Central Avenue, Alameda, CA

Designated Source of Supply: Rubicon Programs, Inc., Richmond, CA

Contracting Activity: General Services Administration, FPDS Agency Coordinator

Michael R. Jurkowski,
Deputy Director, Business & PL Operations.

[FR Doc. 2020-25141 Filed 11-12-20; 8:45 am]

BILLING CODE 6353-01-P